GENERAL SERVICES ADMINISTRATION

Record of Decision

The General Services Administration (GSA) has published a Final Supplement to the 1992 Environmental Impact Statement (EIS) for the Del Rio Border Station Expansion, Del Rio, Texas. The Supplement to the 1992 Final EIS is entitled:

Supplement to the 1992 Del Rio Border Station Expansion Environmental Impact Statement—Increased Security Measures Associated With Phase III Expansion at the Del Rio Port of Entry; Del Rio, Val Verde County, TX

Decision

The GSA has decided to increase security at and around the Del Rio Port of Entry (POE) in accordance with measures outlined for heightened security along the nation's borders after the events of September 11, 2001. The increased security measures would be implemented in conjunction with the Phase III expansion activities described in the 1992 Final EIS.

Purpose and Need

The purpose and need for the proposed action (as described in the 2004 Supplement to the 1992 EIS, pages 1-1-1-3, available at http://public.geo-marine.com/) are to better secure the border at the Del Rio POE complex while ensuring efficient flow of lawful traffic and commerce.

Issues

The 2004 Supplement to the 1992 EIS analyzed the potential impacts of implementing increased security measures at and around the Del Rio POE complex. Issues associated with the proposed increased security measures (identified through scoping) include land use, transportation, air quality, noise, socioeconomic (including environmental justice), and cultural resources. Issues eliminated from detailed analysis (due to relevancy to the proposed action or prior environmental review in the 1992 EIS) include soils, hydrology, vegetation and wildlife (including protected species), and public services and utilities.

Alternatives Considered

The following alternatives were analyzed to determine which best satisfied the purpose and need for the increased security measures.

Alternative 1—No Action Alternative

Under this alternative, no new security measures would be implemented to increase security at and around the Del Rio POE complex. This alternative would be considered environmentally preferable and would result in no land use, transportation, air quality, noise, socioeconomic (including environmental justice), or cultural resources impacts. However, implementing this alternative would not allow the GSA to increase security in accordance with measures outlined for heightened security along the nation's borders. The requirements for increased security were the primary consideration in not choosing this alternative.

Alternative 2—Preferred Alternative

Under this alternative, security would be increased at and around the Del Rio POE complex, resulting in the elimination of all pedestrian and vehicular traffic/access east along Rio Grande Road. This would be accomplished by permanently closing a portion of Rio Grande Road (approximately 550 feet of road east of State Spur 239) (page 2-5 of the Supplement). As part of implementing this alternative, the 550-foot stretch of road would be immediately closed (through the placement of “jersey barriers”) to quickly realize increased security and to facilitate construction associated with Phase III expansion activities. Additionally, a new Commercial Exit Control Facility and exit road would be constructed. After construction, a portion of the exit road and corresponding land would be donated to the City of Del Rio as a public right-of-way (figure available at http://public.geo-marine.com/). The entire length of exit road could then be used by the City of Del Rio and the Government for the construction of a bypass road replacing Rio Grande Road. As part of implementing this alternative the GSA would also make available approximately one acre in the northwest corner of the government property for an easement granted to the Faith Mission (figure available at http://public.geo-marine.com/). This easement would be out-parceled by security fencing and would allow the Faith Mission to construct service facilities at some time in the future.

This alternative would be considered environmentally preferable and would result in no land use, transportation, air quality, noise, or cultural resources impacts. However, eliminating pedestrian access to Rio Grande Road east would result in increased travel time for a small population of low-income and/or minority visitors of the Faith Mission. Access to the Faith Mission would still be possible through alternate traffic routing; however, this would increase the travel time of approximately 42 individuals per service day that walked. Additionally, if the Faith Mission elects to locate some service facilities on the approximately one acre easement, then those services would be directly accessible by pedestrians immediately after processing through the POE. Implementing this alternative would allow the GSA to increase security in accordance with measures outlined for heightened security along the nation's borders. Although implementation of this alternative would increase the travel time to the Faith Mission, the requirements for increased security were the primary consideration in choosing this alternative. In choosing this alternative to implement, the GSA has adopted all practicable means to avoid or minimize environmental harm (pages 2-4-2-7).

Alternative 3

Similar to the previous alternative (Alternative 2), under this alternative, security would be increased at and around the Del Rio POE complex, resulting in the elimination of all pedestrian and vehicular traffic/access east along Rio Grande Road. However, pedestrian traffic would be facilitated east through the construction of an elevated walkway. This alternative was not carried forward for detailed analysis because of security concerns and the significant costs associated with constructing and maintaining an elevated walkway. These were the primary considerations in not choosing this alternative.

Alternative 4

Similar to the previous alternatives (Alternative 2 and 3), under this alternative, security would be increased at and around the Del Rio POE complex, resulting in the elimination of all pedestrian and vehicular traffic/access east along Rio Grande Road. However, pedestrian traffic would be facilitated east through the construction of a pedestrian tunnel. This alternative was not carried forward for detailed analysis because of security concerns and the significant costs associated with constructing and maintaining a pedestrian tunnel. These were the primary considerations in not choosing this alternative.

Questions and Comments

During the comment period for the Draft Supplement, the GSA received two comments; both stated no objection to the proposed project. The GSA believes there are no outstanding environmental issues to be resolved with implementing increased security measures at and around the Del Rio POE facility.

Questions regarding the Supplement to the 1992 EIS may be directed to Lisa Schaub, Region 7 Environmental and Safety Group, GSA 819 Taylor Street 7PWM, Fort Worth, Texas 76102, (817) 978-4233.

Dated: January 10, 2005.
Scott Armey,
Regional Administrator, GSA, Region 7, Fort Worth, Texas.

[FR Doc. 05-999 Filed 1-18-05; 8:45 am]

BILLING CODE 6820-27-P